EXECUTIVE OFFICE OF THE PRESIDENT

OFFICE OF SCIENCE AND TECHNOLOGY POLICY

OFFICE OF MANAGEMENT AND BUDGET

Request for Information Relating to Research Awards

AGENCY: Executive Office of the President, Office of Science and Technology Policy (OSTP) and Office of Management and Budget (OMB), Office of Federal Financial Management (OFFM).

ACTION: Request for information relating to the use of multiple Principal Investigators (PIs) on awards made under Federal research and research-related programs.

SUMMARY: Many areas of today's research require multi-disciplinary teams in which the intellectual leadership of the project is shared among two or more individuals. To facilitate this team approach through recognition of the contributions of the team leadership members, OSTP issued a memorandum to all Federal research agencies on January 4, 2005, requiring them to formally allow more than one PI on individual research awards. The Federal agencies are now seeking input from the research community—scientists, research administrators, and organizations that represent components of the scientific research community—on how best to implement this policy. The current Request for Information (RFI) poses a series of questions around core elements that may comprise each agency's implementation plan. These elements include:

(1) Statement of what constitutes a PI; (2) designation of contact PI; (3) application instructions for listing more than one PI; (4) PIs at different institutions; (5) access to award and review information, and (6) access to public data systems.

DATES: Comments must be received by September 16, 2005.

ADDRESSES: Comments should be addressed to Beth Phillips, Office of Federal Financial Management, 725 17th Street, NW., Washington, DC 20503; telephone 202-395-3993; FAX 202-395-3952; e-mail ephillip@omb.eop.gov. Due to potential delays in OMB's receipt and processing of mail sent through the U.S. Postal Service, we encourage respondents to submit comments electronically to ensure timely receipt. We cannot guarantee that comments mailed will be received before the comment closing date. Please include “Multiple Principal Investigators” in the subject line of the e-mail message, and your name, title, organization, postal address, telephone number and e-mail address in the text of the e-mail message. Please also include the full body of your comments in the test of the e-mail message and as an attachment.

FOR FURTHER INFORMATION CONTACT: For information on the Research Business Models (RBM) Subcommittee see the RBM Web site at http://rbm.nih.gov, or contact Geoff Grant at the Office of Science and Technology Policy at 725 17th Street, NW., Washington, DC 20503; e-mail ggrant@ostp.eop.gov; telephone 202-456-6131; FAX 202-456-6027.

SUPPLEMENTARY INFORMATION:

I. Background on RBM

This proposal is an initiative of the Research Business Models (RBM) Subcommittee of the Committee on Science (CoS), a committee of the National Science and Technology Council (NSTC). The RBM Subcommittee's objectives include:

• Facilitating a coordinated effort across Federal agencies to address policy implications arising from the changing nature of scientific research, and

• Examining the effects of these changes on business models for the conduct of scientific research sponsored by the Federal government.

The Subcommittee used public comments, agency perspectives, and input from a series of regional public meetings to identify priority areas in which it would focus its initial efforts. In each priority area, the Subcommittee is pursuing initiatives to promote, as appropriate, either common policy, the streamlining of current procedures, or the identification of agencies' and institutions' “effective practices.” As information about the initiatives becomes available, it is posted at the Subcommittee's Internet site http://rbm.nih.gov.

II. Background on the Plan To Recognize Multiple PIs on Federal Research Projects

Many areas of research, in particular, translations of complex discoveries into useful applications, increasingly require multi-disciplinary and inter-disciplinary teams. Innovation and progress still spring from and depend on creative individual investigators, but collaborative synergy plays an increasingly important role in advancing science and engineering. In deciding whether to do research as members of multi-disciplinary teams, individual investigators must consider how credit for their participation would be judged by the current incentive and reward policies of their academic institutions, by their funding agencies, and by colleagues within their own disciplines. The present system takes its structure from the paradigm of the single “Principal Investigator”. Although this model has worked well and encourages individual creativity and productivity, it also can discourage team efforts.

Multi-disciplinary research teams can be organized in a variety of ways. Research teams vary in terms of size, hierarchy, location of participants, goals, and structure. Depending on the size and the goals, the management structure of a team may include: a director and/or multiple directors, assistant or associate directors, managers, group leaders, team leaders, investigators, and others as needed. Regardless of how a research team is organized, a pertinent and important question is how to apportion credit fairly if multiple individuals provide the intellectual leadership and direction of the team effort.

Acting on the recommendation of the RBM Subcommittee, the CoS concluded that team research would be enhanced if all Federal agencies allowed more than one PI on individual research awards. Some agencies already do this, either formally or informally, but the CoS action, which led to a directive to all research agency heads by the Director, OSTP, dated January 4, 2005, extends the practice to all research agencies as a matter of policy.

Federal Implementation Effort

Accordingly, the federal research agencies will allow more than one PI to be named on grant and contract proposals and awards. The expectation is that a proposing institution will name as PIs in its proposal those individuals who share the major authority and responsibility for leading and directing the project, intellectually and logistically. This concept is similar to the widely accepted practice of recognizing the contributions and responsibilities of business partners.

The agencies recognize that teams frequently cut across institutional and geographic boundaries and that team efforts therefore often involve subcontracting or consortia arrangements between different institutions. Based on the experience that some agencies already have with research teams spanning multiple institutions, the agencies are relatively confident that recognition of personnel involved in multi-institution research projects will not substantively alter these well established relationships between institutions.

It should be emphasized that naming multiple PIs for a proposed research project is solely at the discretion of the proposing institution(s). The government's recognition of more than one individual as PI also is not intended to alter the institution's role in assigning administrative or reporting responsibilities, nor the working relationship between team members as they collaboratively allocate resources within the team, subject to any constraints of the awardee institution or the Federal agency under the award terms and conditions, and as they apportion credit for research accomplishments. Compliance requirements will continue to apply to individuals and institutions, as they do today, regardless of the designation of multiple PIs.

III. Request for Information

The Federal agencies have not fully developed their implementation of the new OSTP policy on recognition of multiple PIs. The implementation will address several core issues, which are listed below with some questions for which public input is sought in developing agency strategies. The Research Business Models Subcommittee will work to coordinate a cross-government implementation of this policy, to the extent practicable, as agencies take the public comments into account and finalize their plans. The cross-government implementation will then be published in the Research Business Models Toolkit.

Proposed Elements of Agency Implementation Plans

(1) Statement of what constitutes a PI: The current expectation is to allow institutions to propose as a PI any investigator whom they judge to have the appropriate level of authority and responsibility related to the proper conduct of the study and submission of required reports to the agencies. All PIs would be named in the award. The term “Co-Principal Investigator”, as currently used by some agencies, would no longer be used, to avoid any confusion about relative status of PIs on the project.

Q 1: Are there any difficulties associated by listing more than one individual as a PI? If so, please elaborate.

(2) Designation of Contact PI: To facilitate communication, the institution will be required to identify a Contact PI, to whom agency program officials will direct all communications related to scientific, technical, and budgetary aspects of the project for which agency staff would normally contact the single PI. By recognizing a person as a Contact PI, a Federal agency would not itself confer any special privileges on that person or any additional responsibilities, other than ensuring that all PIs receive information that the agency transmits. While the designation of the Contact PI is at the discretion of the proposing institution, he or she would normally be from that institution. If an institution does not propose a Contact PI, then the funding agency will use the first listed PI as the default for that role.

Q 2: Are there any difficulties that would be created by the designation of one PI as the Contact PI? If so, please describe. Are there issues that would affect institutions?

(3) Application instructions for listing more than one PI: Each agency would specify how its standard application procedures would be modified to reflect the overall policy accommodating multiple PIs. This may include instructions for describing, within the research plan, the specific areas of responsibility for each PI and how the team will function. In the case of more large-scale, complex multi-disciplinary projects (e.g., center grants, multi-site clinical trials) agencies already have in place special mechanisms with requirements for management plans that address issues of coordination and decision making within those projects. Such projects are typically solicited through a special funding opportunity (e.g., Request for Applications or Proposals), and this practice would continue.

Q 3: What issues should the agencies consider in developing their instructions for applications naming more than one PI?

(4) PIs at different institutions: Multi-disciplinary research generally is performed by teams of researchers with strengths across a number of science and engineering specialties. To assemble teams with the requisite expertise, PIs at institutions with strengths in different disciplines that bear on a research question frequently collaborate to propose and carry out the work jointly. Therefore, a multi-disciplinary team's PIs often are from different institutions and, when only a single institution is involved, the PIs are frequently from separate academic departments. One element of each Federal agency's implementation therefore is accommodating recognition of multiple PIs from different institutions. Making one award to a single lead institution often is the best way to ensure good programmatic coordination of the overall team effort, with subawards from the lead institution to support the research efforts of the other institutions. Making separate awards with PIs at each collaborating institution sometimes is a better approach and, occasionally, an award to a consortium of institutions is most advantageous. The key for each agency is to specify a method for recognizing multiple PIs that is consistent with the overall policy and that works for the types of business arrangements that the agency uses to support multidisciplinary research.

Q 4: Recognizing that agencies differ in the structure of their business arrangements with institutions, are there ways for the agencies to recognize PIs for a team effort involving multiple departments or institutions? What issues should the agencies consider in deciding on the most appropriate award structure?

(5) Access to award and review information: Agencies that grant access to award information to the PI likely would broaden that access to all named PIs. Agencies that share peer review information with the PI for a proposal also are considering whether to broaden that access to all named PIs.

Q 5: What are the benefits of granting access to award and review information to all named PIs, not just the Contact PI? What are the difficulties, if any, in granting such access?

(6) Access to public data systems: Each agency will describe the data system(s) that will list PIs and, if the public may directly access those systems, how to access them. The current proposal is to have all PIs named on the award statement listed in the agency data system.

Q 6a: What are the benefits, if any, from listing more than one PI in agency databases? What are the difficulties, if any, with such listings?

Q 6b: Would use of agency data systems with PI information, warrant an investment in alterations to such systems?

Other Considerations

Q 7: Overall, how will the changes proposed for official recognition of multiple PIs benefit multi-disciplinary and inter-disciplinary research? Would the proposed changes help or harm the process of cooperation among researchers on a collaborative project?

Q 8: What other suggestions do you have for facilitating the recognition of multiple PIs?

Kathie L. Olsen,
Associate Director for Science, Office of Science and Technology Policy.
Linda M. Combs,
Controller, Office of Federal Financial Management.

[FR Doc. 05-14015 Filed 7-15-05; 8:45 am]

BILLING CODE 3110-01-P